DEPARTMENT OF COMMERCE

Submission for OMB Review; Comment Request

DOC has submitted to the Office of Management and Budget (OMB) for clearance the following proposal for collection of information under the provisions of the Paperwork Reduction Act (44 U.S.C. chapter 35).

AGENCY: U.S. Census Bureau.

Title: 2004 Census Test.

Form Number(s): DB-1: questionnaire; DB-5, DB-6A, DB-6B, DB-6C, DB-8: envelopes; DB-31(P): privacy notice; DB-16(L), DB-16(L)(UL), DB-17(L): cover letters; DB-5(L): advance letter; DB-9: reminder post card; DB-1(F): respondent flashcard booklet.

Agency Approval Number: None.

Type of Request: New collection.

Burden: 33,530 hours.

Number of Respondents: 200,000.

Avg Hours Per Response: 10 minutes.

Needs and Uses: The U.S. Census Bureau requests authorization from the Office of Management and Budget to conduct the 2004 Census Test. The goal of the 2004 Census Test is to obtain information needed to inform decisions about adopting, refining, or rejecting potential new methods, content, and wording for the 2010 Census. The 2004 Census Test will evaluate the effectiveness of:

Mobile Computing Devices for Field Work—Methods for implementing an MCD system during the Nonresponse Followup (NRFU) operation. We are developing an MCD system that incorporates Spanish and English language capabilities, that can receive workload information and transmit census data, and that includes maps. We plan to assess the impact of the system on field infrastructure and data processing.

Coverage Improvement—New methods for improving coverage, including procedures to address overall coverage of the Nation's population and housing and procedures to address duplication issues. The 2004 Census Test Questionnaire will include two new questions (numbers 2 and 10) designed to ensure that each individual is counted once and only once and in the right place, revised residence rule instructions to help respondents understand who to include on census forms, and space to add information for four characteristics for persons seven through twelve (age, sex, date of birth, and relationship).

Changes to Questionnaire Content—Collect data on respondent reaction to the revised race and Hispanic Origin questions, including the removal of the “Some Other Race” (“SOR”) option and the inclusion of examples for both questions. In addition, we are planning to record and behavior-code some of the NRFU interviews in order to gain additional insight into respondent reaction to the race and Hispanic Origin questions.

Methods to Identify Special Places/Group Quarters—As part of its research and development work for the 2010 census, the 2004 Census Test also will test improved definitions and methods for distinguishing between group quarters and housing units during census operations, in order to update the MAF in a comprehensive, integrated manner. The Group Quarters Validation (GQV) operation is covered by a separate OMB submission.

The 2004 Census Test, which is part of an extended test cycle leading up to the next decennial census, will be conducted in two sites—Northwest Queens Borough, NY, and three rural counties in Southwest Georgia (Colquitt, Tift, and Thomas). The test will use two modes for data collection (paper and MCD). Approximately 175,000 housing units in the test sites will receive a census questionnaire by mail (mailout/mailback universe, i.e. housing units that have city-style addresses such as 806 Main Street). Additionally, enumerators will deliver a questionnaire to approximately 25,000 housing units that have non city-style addresses such as Rt. 7, Box 433 (update/leave universe). All respondents (those living in both the mailout/mailback and update/leave areas) will be asked to complete the forms and mail them back using the postage-paid envelopes provided.

Prior to the beginning of NRFU, a second questionnaire will be sent to each housing unit in the mailout/mailback universe in both sites that has not already returned the initial questionnaire. During the NRFU portion of the test, enumerators equipped with MCDs will visit and/or call non-respondents and attempt to collect the information.

The 2004 Census Test will include an array of data collection, data capture, and data processing operations along with the associated support activities necessary for obtaining the data required for evaluation. Although we will conduct a quality assurance operation during NRFU, we will not conduct the re-interview portion of the Race and Hispanic Origin Retinterview due to its operational complexity and resource requirements. We will conduct a short re-interview for quality-control purposes with approximately 5,800 households in the NRFU universe to verify that a NRFU enumerator visited the address and collected the appropriate address and household information.

Enumerator Taping Assistants (ETAs) also will tape and behavior-code an area sample of NRFU interviews (Northwest Queens Site, only) as enumerators are conducting the interviews. Data collected as a result of these interviews will be used in conjunction with missing data rates, NRFU response distributions, and the 2003 National Census Test results to evaluate respondent reactions to the new race and Hispanic Origin questions.

Affected Public: Individuals or households.

Frequency: One-time.

Respondent's Obligation: Mandatory.

Legal Authority: Title 13 U.S.C., Sections 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202) 395-7245 or e-mail (susan_schechter@omb.eop.gov).

Dated: October 8, 2003.
Madeleine Clayton,
Management Analyst, Office of the Chief Information Officer.

[FR Doc. 03-26017 Filed 10-14-03; 8:45 am]

BILLING CODE 3510-07-P